DEPARTMENT OF COMMERCE

National Oceanic and Atmospheric Administration

50 CFR Part 660

[Docket No. 130123065-4768-01]

RIN 0648-BC95

Fisheries Off West Coast States; West Coast Salmon Fisheries; Amendment 18 to the Pacific Coast Salmon Fishery Management Plan

AGENCY: National Marine Fisheries Service (NMFS), National Oceanic and Atmospheric Administration (NOAA), Commerce.

ACTION: Proposed rule; request for comments.

SUMMARY: NMFS proposes regulations to implement Amendment 18 to the Pacific Coast Salmon Fishery Management Plan for Commercial and Recreational Salmon Fisheries off the Coasts of Washington, Oregon, and California (FMP). Amendment 18, which was transmitted by the Pacific Fishery Management Council (PFMC) on June 10, 2014, revises the description and identification of essential fish habitat (EFH) for Pacific salmon managed under the FMP, designates habitat areas of particular concern (HAPCs), updates the current information on fishing activities, and updates the list of non-fishing related activities that may adversely affect EFH and potential conservation and enhancement measures to minimize those effects.

DATES: Comments on this proposed rule must be received on or before October 22, 2014.

ADDRESSES: You may submit comments, identified by NOAA-NMFS-2014-0071, by any one of the following methods:

• Electronic Submissions: Submit all electronic public comments via the Federal e-Rulemaking Portal http://www.regulations.gov. To submit comments via the e-Rulemaking Portal, enter NOAA-NMFS-2014-0071 in the search box. Locate the document you wish to comment on from the resulting list and click on the “Submit a Comment” icon on the right of that line.

• Mail: William W. Stelle, Jr., Regional Administrator, West Coast Region, NMFS, 7600 Sand Point Way NE., Seattle, WA 98115-0070.

Instructions: Comments must be submitted by one of the above methods to ensure that the comments are received, documented, and considered by NMFS. Comments sent by any other method, to any other address or individual, or received after the end of the comment period, may not be considered. All comments received are a part of the public record and will generally be posted for public viewing on http://www.regulations.gov without change. All personal identifying information (e.g., name, address, etc.) submitted voluntarily by the sender will be publicly accessible. Do not submit confidential business information or otherwise sensitive or protected information. NMFS will accept anonymous comments (enter N/A in the required fields if you wish to remain anonymous). Attachments to electronic comments will be accepted in Microsoft Word, Excel, WordPerfect, or Adobe PDF file formats only.

Information relevant to this proposed rule, which includes an EA with a regulatory impact review (RIR), is available for public review during business hours at the office of the PFMC, at 7700 NE Ambassador Place, Suite 101, Portland, OR 97220, phone: 503-820-2280, and is posted on its Web site (http://www.pcouncil.org/salmon/fishery-management-plan/amendments-in-development/). These documents are also linked on the NMFS West Coast Region Web site (http://www.westcoast.fisheries.noaa.gov/fisheries/salmon_steelhead/salmon_and_steelhead_fisheries.html). Copies of additional reports referred to in this document may also be obtained from the PFMC.

FOR FURTHER INFORMATION CONTACT: Peggy Mundy at 206-526-4323.

SUPPLEMENTARY INFORMATION:

Background

The identification and description of EFH for salmon stocks managed under the FMP were originally developed in Amendment 14 to the FMP (66 FR 29238, May 30, 2001), and codified by NMFS at 50 CFR 660.412 in 2008 (73 FR 60987, October 15, 2008). The Magnuson-Stevens Fishery Conservation and Management Act (MSA) requires periodic review of EFH provisions, and revision or amendment of those provisions, as warranted, based on available information (50 CFR 600.815(a)(10)). In 2009, the PFMC and NMFS established and staffed a Pacific Coast Salmon EFH Oversight Panel (Panel) to review salmon EFH and new information relevant to salmon EFH, and to make recommendations as to whether revisions would be appropriate. The Panel recommended modifications to Pacific salmon EFH in a final report submitted to the PFMC (Stadler et al. 2011). At its April 2011 meeting, the PFMC initiated an FMP amendment to address the Panel's recommendations. The PFMC adopted modifications to salmon EFH contained in Amendment 18 at their September 2013 meeting, and transmitted the proposed amendment, and a draft environmental assessment (EA) to NMFS on June 10, 2014. NMFS published a notice of availability and request for comments in the Federal Register (79 FR 34272, June 16, 2014); after a 60-day comment period, no comments were received. Amendment 18 was approved by the Secretary of Commerce on September 12, 2014.

Components of Amendment 18

Amendment 18, as proposed, would modify the FMP in four sections, including Appendix A. These modifications, and their rationale, are described below under the titles of the affected FMP sections.

FMP Section 4.1.1—Identification and Description

Prior to Amendment 18, estuarine and marine EFH for salmon extends from the nearshore and tidal submerged environments within state territorial waters out to the full extent of the exclusive economic zone (200 nautical miles) offshore of Washington, Oregon, and California north of Point Conception. The shoreward boundary is vague and does not take into account tidal fluctuations. Amendment 18 would add specificity to this boundary by describing it as extending from the extreme high tide line in nearshore and tidal submerged environments. The offshore boundary remains the extent of the U.S. exclusive economic zone offshore of Washington, Oregon, and California north of Point Conception, but Amendment 18 would add the metric equivalent of 370.4 km.

Due to the migratory nature of salmon, some stocks managed by the PFMC spend part of their life history occupying Alaskan waters, but not all salmon stocks found Alaskan waters are PFMC-managed stocks. In the current FMP, Pacific Coast salmon EFH is described as including the marine areas off Alaska designated as salmon EFH by the North Pacific Fishery Management Council (NPFMC), regardless of the stocks for which the NPFMC designated the EFH. Amendment 18 would clarify that Pacific salmon EFH as designated by the PFMC includes areas designated as EFH by the NPFMC only for stocks managed by the PFMC.

Prior to Amendment 18, freshwater salmon EFH is identified as: all currently viable water bodies and most of the habitat historically accessible to salmon (except above certain impassable natural barriers). Amendment 18 would change this language to read: The geographic extent of freshwater EFH is identified as all water bodies currently or historically occupied by PFMC-managed salmon in Washington, Oregon, Idaho, and California as identified in Table 1 of Appendix A. The new language eliminates the undefined term “currently viable,” and replaces it with “currently occupied” and the term “historically accessible” with “historically occupied.” These terms are consistent with the definition of EFH at 50 CFR 600.10. It also clarifies that EFH is designated for salmon stocks managed under the FMP.

FMP Section 4.12—Adverse Effects of Fishing on Essential Fish Habitat

Amendment 18 would make minor changes to this section that are largely editorial and grammatical.

FMP Section 4.14—Procedures for Amending Salmon EFH

Amendment 18 would add new section 4.14 to the FMP, to bring the FMP into compliance with regulations at 50 CFR 600.815(a)(10), which require the FMP to outline the procedures the PFMC will follow to review and revise EFH information. Revisions to Pacific Coast salmon EFH could be made when the PFMC determines that such action is warranted by new information that has become available. Such new information is typically generated during the periodic reviews, but could come before the PFMC through other established avenues. The process could typically be accomplished via a three-meeting PFMC process and would require PFMC advisory bodies to assess and make recommendations to the PFMC regarding changes to Appendix A. Upon the PFMC's adoption of any revisions, further procedures may be required to implement the revisions as advised by the Secretary.

FMP Appendix A—Identification and Description of Essential Fish Habitat, Adverse Impacts, and Conservation Measures

Under Amendment 18, Appendix A would be revised, including a table listing the freshwater EFH designations using United States Geological Survey (USGS) 4th field HUs. The information used to revise Appendix A comes largely from the Panel's report (Stadler et al. 2011) and is based on the best scientific information available. The proposed Appendix A can be found on the PFMC's Web site (www.pcouncil.org). Amendment 18 includes revisions to the EFH descriptions in Appendix A for Chinook, coho, and pink salmon stocks managed under the FMP to reflect currently available information regarding habitat currently or historically occupied by salmon and changes made by USGS to its HUs. As a result, some HUs identified as EFH in the current Amendment 18 would be de-designated, others would be added, and identifying information about some HUs would be modified to reflect USGS' new designations. The proposed Appendix also designates five types of habitat as HAPCs: Complex channels and floodplain habitats, thermal refugia, spawning habitat, estuaries, and marine and estuarine submerged aquatic vegetation. Amendment 18 makes only minor changes to fishing activities affecting salmon EFH; the description of fishing activities is updated, impacts from derelict gear is added, and harvest of prey species is updated. The Amendment expands the list of non-fishing activities that may affect salmon EFH to include the following: Alternative energy development, coal export terminal facilities, culvert construction, desalination, flood control maintenance, liquefied natural gas projects, overwater structures, pesticide use, and power plant intakes. Amendment 18 revises criteria for considering designation of habitat above impassable dams as EFH and updates existing designations to reflect new information.

Changes to Regulations

This proposed Rule includes changes to the existing regulations at 50 CFR 660.412 to implement Amendment 18. These are described below.

• § 660.412—EFH identifications and descriptions for Pacific salmon

This section is revised in its entirety to update the specific EFH identifications and descriptions for Pacific salmon in Washington, Idaho, Oregon, and California, as proposed in Amendment 18 to the FMP. These changes include adding specificity to this boundary by describing it as extending from the extreme high tide line in nearshore and tidal submerged environments; clarifying that Pacific salmon EFH as designated by the PFMC includes areas designated as EFH by the NPFMC only for stocks managed by the PFMC; and adding new language eliminating the undefined term “historically accessible” with “historically occupied.” Table 1 has been rewritten to update freshwater EFH designations for Chinook, coho, and pink salmon stocks managed under the FMP using USGS 4th field HUs.

Classification

Pursuant to section 304(b)(1)(A) of the MSA, the NMFS Assistant Administrator has determined that this proposed rule is consistent with Amendment 18, the Pacific Salmon Fishery Management Plan, the MSA, and other applicable law, subject to further consideration after public comment.

This proposed rule has been determined to be not significant for purposes of Executive Order 12866.

A Draft EA has been prepared for Amendment 18; a copy of the Draft EA is available online at http://www.pcouncil.org/. The Draft EA includes a regulatory impact review (RIR) prepared by NMFS.

The Chief Counsel for Regulation of the Department of Commerce certified to the Chief Counsel for Advocacy of the Small Business Administration that this proposed rule, if adopted, would not have a significant economic impact on a substantial number of small entities.

The purpose of the Regulatory Flexibility Act (RFA) is to relieve small businesses, small organizations, and small governmental entities of burdensome regulations and record-keeping requirements. Major goals of the RFA are: (1) To increase agency awareness and understanding of the impact of their regulations on small business, (2) to require agencies communicate and explain their findings to the public, and (3) to encourage agencies to use flexibility and to provide regulatory relief to small entities. The RFA emphasizes predicting impacts on small entities as a group distinct from other entities and the consideration of alternatives that may minimize the impacts while still achieving the stated objective of the action. An initial regulatory flexibility analysis (IRFA) is conducted unless it is determined that an action will not have a “significant economic impact on a substantial number of small entities.”

The objective of this proposed rule is to revise and update the EFH provisions of the Salmon FMP that were previously approved by the Secretary of Commerce in 2000 (66 FR 29238, May 30, 2001). EFH provisions are required under the MSA (16 U.S.C. 1802(b)(7)). This rule would impact vessels harvesting salmon from the ocean troll fishery. The following fishery information is found in the 2013 Stock Assessment and Fisheries Evaluation report (PFMC 2014). In 2013, there were 2,270 permits issued for this fishery, with a total exvessel value of $34.1 million. Of the 2,270 permits, only 1,177 actually landed salmon. In California, 670 vessels landed salmon for an exvessel value of $23.6 million; in Oregon, 399 vessels landed salmon for an exvessel value of $7.6 million; and in Washington, 108 vessels landed salmon for an exvessel value of $2.8 million. Treaty Indian ocean fisheries landed salmon with an exvessel value of $6.4 million.

On June 12, 2014, the Small Business Administration (SBA) issued an interim final rule revising the small business size standards for several industries effective July 14, 2014 (79 FR 33467 (June 12, 2014)). The rule increased the size standard from $19.0 to $20.5 million for finfish fishing, from $5 to $5.5 million for shellfish fishing, and from $7.0 million to $7.5 million for other marine fishing, for-hire businesses, and marinas. Based on this size standard, all vessels harvesting salmon from the ocean troll fishery are considered small under the Small Business Administration approved definition of a small fish harvester. Therefore, there can be no disproportionate impacts between small and large vessels. Furthermore, there are no disproportionate impacts based on homeport, gear type, or vessel size from the promulgation of this proposed rule.

This proposed rule would not result in any immediate impacts on revenues or costs for the small entities participating in the Pacific salmon fishery because it does not contain any new management measures that would have specific economic impact on the fishery. However, future rulemakings that are promulgated by NMFS on behalf of the Secretary may be based in part on the identification and description of the EFH and such actions would likely have specific measurable impacts on the small entities participating in the fishery.

As a result, an initial regulatory flexibility analysis is not required and none has been prepared. NMFS will conduct the appropriate analyses for any subsequent rulemakings stemming from this proposed rule.

This proposed rule would not establish any new reporting or recordkeeping requirements. This proposed rule does not include a collection of information. No Federal rules have been identified that duplicate, overlap, or conflict with this action.

This action is not expected to have adverse effects on any listed species or critical habitat. As described in the EA for Amendment 18, this action may have minimal effects on listed species in freshwater areas where EFH designations would change slightly under the preferred alternative. NMFS has consulted with itself under ESA section 7 and prepared a memo concluding that implementation of the preferred alternative is not likely to adversely affect any listed species or critical habitat.

This proposed rule was developed after meaningful collaboration with the affected tribes, through the PFMC process. Under the MSA at 16 U.S.C. 1852(b)(5), one of the voting members of the PFMC must be a representative of an Indian Tribe with Federally recognized fishing rights from the area of the PFMC's jurisdiction.

List of Subjects in 50 CFR Part 660

Fisheries, Fishing, Recordkeeping and reporting requirements.

Dated: September 16, 2014.
Samuel D. Rauch III,
Deputy Assistant Administrator for Regulatory Programs, National Marine Fisheries Service.

For the reasons set out in the preamble, 50 CFR part 660 is proposed to be amended as follows:

PART 660—FISHERIES OFF WEST COAST STATES

1. The authority citation for part 660 continues to read as follows:

Authority: 16 U.S.C. et seq. and 16 U.S.C. 773 et seq.

2. Section § 660.412 is revised to read as follows:

§ 660.412 EFH identifications and descriptions for Pacific salmon.

Essential fish habitat (EFH) is identified for anadromous Pacific salmon stocks managed by the Pacific Fishery Management Council (PFMC) under the Pacific Coast Salmon Fishery Management Plan (FMP). These managed salmon include most of the Chinook salmon (Oncorhynchus tshawytscha) stocks and all of the coho salmon (O. kisutch) stocks from Washington, Oregon, Idaho, and California; as well as pink salmon (O. gorbuscha) stocks originating from watersheds within Puget Sound east of, and including, the Elwha River. The geographic extent of freshwater EFH is specifically identified in the FMP as all water bodies currently or historically occupied by PFMC-managed salmon in Washington, Oregon, Idaho, and California; including aquatic areas above all artificial barriers that are not specifically excluded. Freshwater EFH, identified in Table 1 of this subpart H, is described using fourth field hydrologic unit codes developed by the U.S. Geological Survey (defined in U.S. Geological Survey and U.S. Department of Agriculture, Natural Resources Conservation Service: Federal guidelines, requirements, and procedures for the national Watershed Boundary Dataset: U.S. Geological Survey Techniques and Methods 11-A3, 2009). Table 1 also identifies the dams that represent the upstream extent of EFH in each hydrologic unit.

(a) Chinook salmon EFH includes all water bodies currently or historically occupied by PFMC-managed Chinook salmon in Washington, Oregon, Idaho, and California as identified in Table 1 of this subpart. Chinook salmon EFH also includes the estuarine and marine areas extending from the extreme high tide line in nearshore and tidal submerged environments within state territorial waters out to the full extent of the exclusive economic zone (EEZ) (200 nautical miles) offshore of Washington, Oregon, and California north of Point Conception; and the marine areas of Alaska that are designated as Chinook salmon EFH by the North Pacific Fishery Management Council (NPFMC), for stocks that are also managed by the PFMC.

(b) Coho salmon EFH includes all water bodies currently or historically occupied by PFMC-managed coho salmon in Washington, Oregon, Idaho, and California as identified in Table 1 of this subpart. Coho salmon EFH also includes the estuarine and marine areas extending from the extreme high tide line in nearshore and tidal submerged environments within state territorial waters out to the full extent of the EEZ (200 nautical miles) offshore of Washington, Oregon, and California north of Point Conception; and the marine areas of Alaska that are designated as coho salmon EFH by the NPFMC, for stocks that are also managed by the PFMC.

(c) Puget Sound pink salmon EFH includes all water bodies currently or historically occupied by PFMC-managed Puget Sound pink salmon in Washington State as identified in Table 1 of this subpart. Puget Sound pink salmon EFH also includes the estuarine and marine areas extending from the extreme high tide line in nearshore and tidal submerged environments within state territorial waters north and east of Cape Flattery, Washington, including Puget Sound, the Strait of Juan de Fuca and Strait of Georgia; the waters of the U.S. EEZ north of 48° N latitude to the U.S.-Canada border; and marine areas of Alaska that are designated as pink salmon EFH by the NPFMC, for stocks that are also managed by the PFMC.

Table 1 to Subpart H of Part 660—Pacific Salmon EFH Identified by USGS Hydrologic Unit Code (HUC)
4th Field hydrologic unit code | Hydrologic unit name | State(s) | Chinook salmon | Coho salmon | Puget Sound pink salmon | Impassable dam(s)
17020005 | Chief Joseph | WA | X | X | — | Chief Joseph Dam.
17020006 | Okanogan | WA | X | — | — | n/a.
17020007 | Similkameen | WA | X | — | — | n/a.
17020008 | Methow | WA | X | X | — | n/a.
17020009 | Lake Chelan | WA | X | — | — | n/a.
17020010 | Upper Columbia—Entiat | WA | X | X | — | n/a.
17020011 | Wenatchee | WA | X | X | — | n/a.
17020012 | Moses Coulee | WA | X | X | — | n/a.
17020015 | Lower Crab | WA | X | — | — | n/a.
17020016 | Upper Columbia—Priest Rapids | WA | X | X | — | n/a.
17030001 | Upper Yakima | WA | X | X | — | Keechelus Dam, Kachess Dam (Kachess River).
17030002 | Naches | WA | X | X | — | Rimrock Dam (Tieton River).
17030003 | Lower Yakima | WA | X | X | — | n/a.
17060101 | Hells Canyon | OR/ID | X | — | — | Hells Canyon Dam.
17060102 | Imnaha River | OR/ID | X | — | — | n/a.
17060103 | Lower Snake—Asotin | OR/WA/ID | X | X | — | n/a.
17060104 | Upper Grande Ronde River | OR | X | X | — | n/a.
17060105 | Wallowa River | OR | X | X | — | n/a.
17060106 | Lower Grande Ronde | OR/WA | X | X | — | n/a.
17060107 | Lower Snake—Tucannon | WA | X | X | — | n/a.
17060108 | Palouse River | WA | X | — | — | n/a.
17060110 | Lower Snake River | WA | X | X | — | n/a.
17060201 | Upper Salmon | ID | X | — | — | n/a.
17060202 | Pahsimeroi | ID | X | — | — | n/a.
17060203 | Middle Salmon—Panther | ID | X | — | — | n/a.
17060204 | Lemhi | ID | X | — | — | n/a.
17060205 | Upper Middle Fork Salmon | ID | X | — | — | n/a.
17060206 | Lower Middle Fork Salmon | ID | X | — | — | n/a.
17060207 | Middle Salmon—Chamberlain | ID | X | — | — | n/a.
17060208 | South Fork Salmon | ID | X | — | — | n/a.
17060209 | Lower Salmon | ID | X | — | — | n/a.
17060210 | Little Salmon | ID | X | — | — | n/a.
17060301 | Upper Selway | ID | X | X | — | n/a.
17060302 | Lower Selway | ID | X | X | — | n/a.
17060303 | Lochsa | ID | X | — | — | n/a.
17060304 | Middle Fork Clearwater | ID | X | X | — | n/a.
17060305 | South Fork Clearwater | ID | X | X | — | n/a.
17060306 | Clearwater | WA/ID | X | X | — | n/a.
17060308 | Lower North Fork Clearwater | ID | X | — | — | Dworshak Dam.
17070101 | Middle Columbia—Lake Wallula | OR/WA | X | X | — | n/a.
17070103 | Umatilla | OR | X | X | — | McKay Dam (McKay Creek).
17070105 | Middle Columbia—Hood | OR/WA | X | X | — | n/a.
17070106 | Klickitat | WA | X | X | — | n/a.
17070306 | Lower Deschutes | OR | X | X | — | n/a.
17080001 | Lower Columbia—Sandy | OR/WA | X | X | — | Bull Run Dam #2.
17080002 | Lewis | WA | X | X | — | n/a.
17080003 | Lower Columbia—Clatskanie | OR/WA | X | X | — | n/a.
17080004 | Upper Cowlitz | WA | X | X | — | n/a.
17080005 | Cowlitz | WA | X | X | — | n/a.
17080006 | Lower Columbia | OR/WA | X | X | — | n/a.
17090001 | Middle Fork Willamette | OR | X | — | — | n/a.
17090002 | Coast Fork Willamette | OR | X | — | — | Dorena Dam.
17090003 | Upper Willamette | OR | X | X | — | n/a.
17090004 | McKenzie | OR | X | X | — | Cougar Dam ¹.
17090005 | North Santiam | OR | X | X | — | Big Cliff Dam ².
17090006 | South Santiam | OR | X | X | — | n/a.
17090007 | Middle Willamette | OR | X | X | — | n/a.
17090008 | Yamhill | OR | X | X | — | n/a.
17090009 | Molalla—Pudding | OR | X | X | — | n/a.
17090010 | Tualatin | OR | X | X | — | n/a.
17090011 | Clackamas | OR | X | X | — | n/a.
17090012 | Lower Willamette | OR | X | X | — | n/a.
17100101 | Hoh—Quillayute | WA | X | X | — | n/a.
17100102 | Queets—Quinault | WA | X | X | — | n/a.
17100103 | Upper Chehalis | WA | X | X | — | n/a.
17100104 | Lower Chehalis | WA | X | X | — | n/a.
17100105 | Grays Harbor | WA | X | X | — | n/a.
17100106 | Willapa | WA | X | X | — | n/a.
17100201 | Necanicum | OR | X | X | — | n/a.
17100202 | Nehalem | OR | X | X | — | n/a.
17100203 | Wilson—Trask—Nestucca | OR | X | X | — | n/a.
17100204 | Siletz—Yaquina | OR | X | X | — | n/a.
17100205 | Alsea | OR | X | X | — | n/a.
17100206 | Siuslaw | OR | X | X | — | n/a.
17100207 | Siltcoos | OR |  | X | — | n/a.
17100301 | North Umpqua | OR | X | X | — | n/a.
17100302 | South Umpqua | OR | X | X | — | n/a.
17100303 | Umpqua | OR | X | X | — | n/a.
17100304 | Coos | OR | X | X | — | n/a.
17100305 | Coquille | OR | X | X | — | n/a.
17100306 | Sixes | OR | X | X | — | n/a.
17100307 | Upper Rogue | OR | X | X | — | Lost Creek Dam.
17100308 | Middle Rogue | OR | X | X | — | Emigrant Dam.
17100309 | Applegate | CA/OR | X | X | — | Applegate Dam.
17100310 | Lower Rogue | OR | X | X | — | n/a.
17100311 | Illinois | CA/OR | X | X | — | n/a.
17100312 | Chetco | CA/OR | X | X | — | n/a.
17110001 | Fraser | WA | X | X | — | n/a.
17110002 | Strait of Georgia | WA | X | X | X | n/a.
17110003 | San Juan Islands | WA | — | X | — | n/a.
17110004 | Nooksack | WA | X | X | X | n/a.
17110005 | Upper Skagit | WA | X | X | X | Gorge Lake Dam.
17110006 | Sauk | WA | X | X | X | n/a.
17110007 | Lower Skagit | WA | X | X | X | n/a.
17110008 | Stillaguamish | WA | X | X | X | n/a.
17110009 | Skykomish | WA | X | X | X | n/a.
17110010 | Snoqualmie | WA | X | X | X | Tolt Dam (S. Fork Tolt River).
17110011 | Snohomish | WA | X | X | X | n/a.
17110012 | Lake Washington | WA | X | X |  | Cedar Falls (Masonry) Dam (Cedar River).
17110013 | Duwamish | WA | X | X | X | n/a.
17110014 | Puyallup | WA | X | X | X | n/a.
17110015 | Nisqually | WA | X | X | X | n/a.
17110016 | Deschutes | WA | X | X |  | n/a.
17110017 | Skokomish | WA | X | X | X | n/a.
17110018 | Hood Canal | WA | X | X | X | n/a.
17110019 | Puget Sound | WA | X | X | X | n/a.
17110020 | Dungeness—Elwha | WA | X | X | X | n/a.
17110021 | Crescent—Hoko | WA | X | X | — | n/a.
18010101 | Smith River | CA/OR | X | X | — | n/a.
18010102 | Mad—Redwood | CA | X | X | — | Robert W. Matthews Dam.
18010103 | Upper Eel | CA | X | X | — | Scott Dam.
18010104 | Middle Fork Eel | CA | X | X | — | n/a.
18010105 | Lower Eel | CA | X | X | — | n/a.
18010106 | South Fork Eel | CA | X | X | — | n/a.
18010107 | Mattole | CA | X | X | — | n/a.
18010108 | Big—Navarro—Garcia | CA | X | X | — | n/a.
18010109 | Gualala—Salmon | CA | X | X | — | n/a.
18010110 | Russian | CA | X | X | — | Coyote Valley Dam (E. Fork Russian R.) Warm Springs Dam (Dry Cr.).
18010206 | Upper Klamath | CA/OR | X | X | — | Keno Dam.
18010207 | Shasta | CA | X | X | — | Dwinnell Dam.
18010208 | Scott | CA | X | X | — | n/a.
18010209 | Lower Klamath | CA/OR | X | X | — | n/a.
18010210 | Salmon | CA | X | X | — | n/a.
18010211 | Trinity | CA | X | X | — | Lewiston Dam.
18010212 | South Fork Trinity | CA | X | X | — | n/a.
18020104 | Sacramento—Stone Corral | CA | X | — | — | n/a.
18020111 | Lower American | CA | X | — | — | Nimbus Dam.
18020115 | Upper Stony | CA | X | — | — | Black Butte Dam.
18020116 | Upper Cache | CA | X | — | — | Capay Dam ³.
18020125 | Upper Yuba | CA | X | — | — | n/a.
18020126 | Upper Bear | CA | X | — | — | Camp Far West Dam.
18020151 | Cow Creek | CA | X | — | — | n/a.
18020152 | Cottonwood Creek | CA | X | — | — | n/a.
18020153 | Battle Creek | CA | X | — | — | n/a.
18020154 | Clear Creek—Sacramento River | CA | X | — | — | Keswick Dam (Sacramento R.), Whiskeytown Dam (Clear Creek).
18020155 | Paynes Creek—Sacramento River | CA | X | — | — | n/a.
18020156 | Thomes Creek—Sacramento River | CA | X | — | — | n/a.
18020157 | Big Chico Creek—Sacramento River | CA | X | — | — | n/a.
18020158 | Butte Creek | CA | X | — | — | n/a.
18020159 | Honcut Headwaters—Lower Feather | CA | X | — | — | Feather River Fish Barrier Dam.
18020161 | Upper Coon—Upper Auburn ⁴ | CA | X | — | — | n/a.
18020162 | Upper Putah | CA | X | — | — | Monticello Dam.
18020163 | Lower Sacramento | CA | X | — | — | n/a.
18040001 | Middle San Joaquin—Lower Chowchilla ⁵ | CA | X | — | — | Buchanan Dam (Chowchilla River), Bear Dam (Bear Creek), Owens Dam (Owens Creek), Mariposa Dam.
18040002 | Lower San Joaquin River ⁵ | CA | X | — | — | n/a.
18040003 | San Joaquin Delta | CA | X | — | — | n/a.
18040007 | Fresno River | CA | X | — | — | Hidden Dam.
18040008 | Upper Merced | CA | X | — | — | Crocker—Huffman Diversion Dam.
18040009 | Upper Tuolumne | CA | X | — | — | La Grange Dam (Tuolumne R.).
18040010 | Upper Stanislaus | CA | X | — | — | Goodwin Dam.
18040011 | Upper Calaveras | CA | X | — | — | New Hogan Dam.
18040012 | Upper Mokelumne | CA | X | — | — | Camanche Dam.
18040013 | Upper Cosumnes | CA | X | — | — | n/a.
18050001 | Suisun Bay | CA | X | — | — | n/a.
18050002 | San Pablo Bay | CA | X | X | — | San Pablo Dam (San Pablo Cr.).
18050003 | Coyote | CA | X | X | — | LeRoy Anderson Dam.
18050004 | San Francisco Bay | CA | X | X | — | n/a.
18050005 | Tomales—Drake Bays | CA | X | X | — | Nicasio Dam (Nicasio Cr.), Peters Dam (Lagunitas Cr.).
18050006 | San Francisco Coastal South | CA | — | X | — | n/a.
18060015 | Monterey Bay ⁶ | CA | — | X | — | Newell Dam (Newell Cr.).
¹ Cougar Dam is a barrier to coho salmon only. Chinook salmon are trapped and hauled above the dam.
² Big Cliff Dam is a barrier to coho salmon only. Chinook salmon are trapped and hauled above the dam.
³ Capay Dam was selected as the upstream extent of EFH because it was identified as a complete barrier by NMFS biologists and is located in the vicinity of the historical upstream extent of Chinook salmon distribution.
⁴ Natural “lower falls” are downstream of any artificial barriers that would meet the criteria for designating them as the upstream extent of EFH; therefore, the upstream extent of EFH within this HU is at the “lower falls”.
⁵ EFH for Chinook salmon in the Middle San Joaquin-Lower Chowchilla HU (18040001) and Lower San Joaquin River HU (18040002) includes the San Joaquin River, its eastern tributaries, and the lower reaches of the western tributaries. Although there is no evidence of current or historical Chinook salmon distribution in the western tributaries (Yoshiyama et al. 2001), the lower reaches of these tributaries could provide juvenile rearing habitat or refugia from high flows during floods as salmon migrate along the mainstem in this area.
⁶ EFH for coho salmon in the Monterey Bay HU does not include the sections south of the Pajaro HU (18060002).

[FR Doc. 2014-22442 Filed 9-19-14; 8:45 am]

BILLING CODE 3510-22-P